FEDERAL COMMUNICATIONS COMMISSION

Notice of Public Information Collection(s) Being Reviewed by the Federal Communications Commission, Comments Requested

November 18, 2010.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before January 28, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via Internet at Nicholas_A._Fraser@omb.eop.gov and to the Federal Communications Commission. To submit your PRA comments by e-mail send them to: PRA@fcc.gov.

FOR FURTHER INFORMATION CONTACT: For additional information, contact Judith B. Herman at 202-418-0214 or via the Internet at Judith-B.Herman@fcc.gov.

SUPPLEMENTARY INFORMATION: OMB Control Number: 3060-0056.

Title: Part 68, Connection of Terminal Equipment to the Telephone Network.

Form No.: N/A.

Type of Review: Extension of a currently approved collection.

Respondents: Business or other for-profit.

Number of Respondents: 58,310 respondents; 68,077 responses.

Estimated Time per Response: .05 hours to 24 hours.

Frequency of Response: On occasion reporting requirement, recordkeeping requirement and third party disclosure requirement.

Obligation to Respond: Required to obtain or retain benefits. Statutory authority for this information collection is contained in the 47 U.S.C. sections 151-154, 201-205, and 303(r).

Total Annual Burden: 21,369 hours.

Total Annual Cost: $935,000.

Privacy Act Impact Assessment: N/A.

Nature and Extent of Confidentiality: The information respondents are requested to provide is not proprietary, trade secret or other confidential information. Applicants are advised not to submit proprietary signal processing or control circuitry not directly involved with Part 68 requirements.

Needs and Uses: The Commission will submit this expiring information collection to the Office of Management and Budget (OMB) after this comment period to obtain the full, three year clearance from them. The Commission is not changing any of the reporting, recordkeeping and/or third party disclosure requirements. The Commission is reporting a 10,658 hourly decrease in burden and a $225,000 decrease in annual costs. This adjustment is due to 12,140 fewer respondents.

The purpose of 47 CFR Part 68 is to protect the telephone network from certain types of harm and prevent interference to subscribers. To demonstrate that terminal equipment comply with criteria for protecting the network; and to ensure that consumers, providers of telecommunications, the Commission and others are able to trace products to the party responsible for placing terminal equipment on the market, it is essential to require manufacturers or other responsible parties to provide the information required by Part 68. In addition, incumbent local exchange carriers (ILECS) must provide the information in Part 68 to warn their subscribers of impending disconnection of service when the subscriber terminal equipment is causing telephone network harm.

There are sixteen specific reporting, recordkeeping and/or third party disclosure requirements under this OMB control number. Part 68 also establishes the right of consumers to use competitively provided inside wiring.

Marlene H. Dortch,
Secretary, Federal Communications Commission.

[FR Doc. 2010-29816 Filed 11-26-10; 8:45 am]

BILLING CODE 6712-01-P